POSTAL SERVICE

39 CFR Part 111

First-Class Package Service—Retail

AGENCY: Postal Service™.

ACTION: Final rule.

SUMMARY: The Postal Service™ is amending Mailing Standards of the United States Postal Service, Domestic Mail Manual (DMM®), in various sections, as a result of the transfer of First-Class Mail® Parcels, a market-dominant product, to the competitive product list.

DATES: Effective Date: September 3, 2017.

FOR FURTHER INFORMATION CONTACT: Karen Key at (202) 268-7492, Jacqueline Erwin at (202) 268-2158, or Garry Rodriguez at (202) 268-7281.

SUPPLEMENTARY INFORMATION: On July 20, 2017, the Postal Regulatory Commission (PRC) conditionally approved the Postal Service's request to transfer First-Class Mail Parcels, a market-dominant retail product for lightweight parcels, to the competitive product list. The PRC's approval was conditioned on the subsequent proposal, review, and approval of prices for the transferred product.

On July 28, 2017, pursuant to Governors' Decision 16-9, the Postal Service filed a notice of price change seeking to implement new prices and a name change for First-Class Mail Parcels. On August 9, 2017, the Commission approved the new prices and name change.

First-Class Mail Parcels will be renamed First-Class Package Service—Retail and will continue to be available at retail with the same service and content restrictions.

Additionally, the existing single-piece First-Class Package Service price category will be renamed First-Class Package Service—Commercial.

List of Subjects in 39 CFR Part 111

Administrative practice and procedure, Postal Service.

The Postal Service adopts the following changes to Mailing Standards of the United States Postal Service, Domestic Mail Manual (DMM), incorporated by reference in the Code of Federal Regulations. See 39 CFR 111.1.

Accordingly, 39 CFR part 111 is amended as follows:

PART 111—[AMENDED]

1. The authority citation for 39 CFR part 111 continues to read as follows:

Authority: 5 U.S.C. 552(a); 13 U.S.C. 301-307; 18 U.S.C. 1692-1737; 39 U.S.C. 101, 401, 403, 404, 414, 416, 3001-3011, 3201-3219, 3403-3406, 3621, 3622, 3626, 3632, 3633, and 5001.

2. Revise the Mailing Standards of the United States Postal Service, Domestic Mail Manual (DMM) as follows:

Mailing Standards of the United States Postal Service, Domestic Mail Manual (DMM)

* * * * *

[Globally revise the DMM to change the current name of First-Class Package Service to First-Class Package Service—Commercial.]

* * * * *

100 Retail Mail Letters, Cards, Flats, and Parcels

101 Physical Standards

* * * * *

[Revise the heading of 6.0 to read as follows:]

6.0 Additional Physical Standards for First-Class Mail and First-Class Package Service—Retail

6.1 Maximum Weight

[Revise the text of 6.1 to read as follows:]

First-Class Mail or First-Class Package Service—Retail cannot exceed 13 ounces.

* * * * *

6.4 Parcels

[Revise the introductory text of 6.4 to read as follows:]

First-Class Package Service—Retail parcels are eligible for USPS Tracking and Signature Confirmation service. A First-Class Package Service—Retail parcel is:

* * * * *

[Add new item d to read as follows:]

d. A mailpiece that does not exceed 108 inches in combined length and girth.

* * * * *

102 Elements on the Face of a Mailpiece

* * * * *

3.0 Placement and Content of Mail Markings

* * * * *

[Revise the heading and text of 3.3 to read as follows:]

3.3 First-Class Mail and First-Class Package Service—Retail Markings

Each single-piece price First-Class Mail and First-Class Package Service—Retail piece must have a delivery address but is not required to bear a price marking.

* * * * *

[Revise the heading of 130 to read as follows:]

130 Retail Mail First-Class Mail and First-Class Package Service—Retail

133 Prices and Eligibility

Overview

* * * * *

[Revise the heading of 2.0 to read as follows:]

2.0 Basic Eligibility Standards for First-Class Mail and First-Class Package Service—Retail

* * * * *

1.0 Prices and Fees

[Revise the heading and introductory text of 1.1 to read as follows:]

1.1 First-Class Mail Single-Piece and First-Class Package Service—Retail Price Application

The single-piece prices are applied as follows:

* * * * *

d. The First-Class Package Service—Retail parcel price applies to parcel-size pieces under 101.3.0 and to flat-size pieces that do not meet the standards in 101.2.0.

[Revise the heading and first sentence of 1.2 to read as follows:]

1.2 Price Computation for First-Class Mail and First-Class Package Service—Retail

First-Class Mail and First-Class Package Service—Retail prices are charged per ounce or fraction thereof; any fraction of an ounce is considered a whole ounce. * * *

* * * * *

1.4 Keys and Identification Devices

[Revise the first sentence of 1.4 to read as follows:]

Keys and identification devices (such as identification cards and uncovered identification tags) that weigh 13 ounces or less may be returned at the applicable single-piece First-Class Mail Flats price plus the fee. * * *

* * * * *

[Revise the heading of 2.0 to read as follows:]

2.0 Basic Eligibility Standards for First-Class Mail and First-Class Package Service—Retail

2.1 Description of Service

[Revise the text of 2.1 to read as follows:]

First-Class Mail and First-Class Package Service—Retail receive expeditious handling and transportation. The USPS does not guarantee the delivery of First-Class Mail and First-Class Package Service—Retail within a specified time.

2.2 Defining Characteristics

2.2.1 Inspection of Contents

[Revise the text of 2.2.1 to read as follows:]

First-Class Mail and First-Class Package Service—Retail are sealed against postal inspection.

2.2.2 Forwarding and Return Service

[Revise the text of 2.2.2 to read as follows:]

The price of First-Class Mail and First-Class Package Service—Retail include forwarding service to a new address for up to 12 months and return service if the mailpiece is undeliverable.

2.2.3 Extra Services

[Revise the first sentence of 2.2.3 to read as follows:]

First-Class Mail, Priority Mail, and First-Class Package Service—Retail are the only products eligible to receive the following extra services: Registered Mail services and Certified Mail services. * * *

3.0 Content Standards

3.1 General Eligibility

[Revise the introductory text of 3.1 to read as follows:]

With the exception of restricted material as described in 601.8.0, any mailable item may be mailed as First-Class Mail and First Class-Package Service—Retail.

3.2 Bills and Statements of Account

[Revise the introductory text of 3.2 to read as follows:]

Bills and statements of account must be mailed as First-Class Mail, First-Class Package Service—Retail, Priority Mail, or Priority Mail Express and are defined as follows:

* * * * *

3.3 Personal Information

[Revise the text of 3.3 to read as follows:]

Mail containing personal information must be mailed as First-Class Mail, First-Class Package Service—Retail, Priority Mail, or Priority Mail Express. Personal information is any information specific to the addressee.

3.4 Handwritten and Typewritten Material

[Revise the text of 3.4 to read as follows:]

Mail containing handwritten or typewritten material must be mailed as First-Class Mail, First-Class Package Service—Retail, Priority Mail, or Priority Mail Express.

* * * * *

3.6 Prohibited Air Transportation

[Revise the text of 3.6 to read as follows:]

All First-Class Mail and First-Class Package Service—Retail are subject to limitations for air transportation in 601.9.0.

134 Postage Payment Methods

Overview

[Revise the heading of 1.0 to read as follows:]

1.0 Postage Payment Methods for First-Class Mail and First-Class Package Service—Retail

* * * * *

[Revise the heading of 1.0 to read as follows:]

1.0 Postage Payment Methods for First-Class Mail and First-Class Package Service—Retail

1.1 Payment Method

[Revise the text of 1.1 to read as follows:]

Postage for single-piece First-Class Mail and First-Class Package Service—Retail must be paid with affixed postage stamps (604.1.0), postage evidencing system postage (604.4.0), or precanceled stamps (604.3.0).

* * * * *

1.3 More Than One Mailer

[Revise the text of 1.3 to read as follows:]

When two or more individuals or organizations, or a party acting as their agent, mail in one package the bills, statements of account, or other letters of the individuals or organizations, to an addressee in common, First-Class Mail or First-Class Package Service—Retail postage may be paid on the weight of the entire package of aggregated mail. Postage is not required on each individual piece.

1.4 More Than One Letter

[Revise the introductory text of 1.4 to read as follows:]

An individual or organization may mail in one package more than one of the mailer's own letters and pay First-Class Mail or First-Class Package Service—Retail postage on the weight of the entire package of letters if: * * *

1.5 Agent

[Revise the text of 1.5 to read as follows:]

Any agent of a licensing authority may forward completed applications in one envelope to an office of the licensing authority and pay First-Class Mail or First-Class Package Service—Retail postage on the weight of the piece.

135 Mail Preparation

Overview

[Revise the heading of 1.0 to read as follows:]

1.0 Preparation for First-Class Mail and First-Class Package Service—Retail

[Revise the heading of 1.0 to read as follows:]

1.0 Preparation for First-Class Mail and First-Class Package Service—Retail

[Revise the introductory of 1.0 to read as follows:]

The following standards apply to single-piece First-Class Mail and First-Class Package Service—Retail:

[Revise the text of items a and b to read as follows:]

a. Each piece of First-Class Mail or First-Class Package Service—Retail must have a delivery address, but is not required to bear a price marking.

b. There are no sorting requirements for single-piece First-Class Mail or First-Class Package Service—Retail, but five or more letter-size pieces bearing metered postage must be faced with the addresses in one direction and bundled. Bundling of letter-size pieces is not required if they fill a letter tray.

136 Deposit

Overview

[Revise the heading of 1.0 to read as follows:]

1.0 Deposit for First-Class Mail and First-Class Package Service—Retail

* * * * *

[Revise the heading of 1.0 to read as follows:]

1.0 Deposit for First-Class Mail and First-Class Package Service—Retail

[Revise the text of 1.0 to read as follows:]

Single-piece First-Class Mail letters and cards and First-Class Package Service—Retail may be deposited into any collection box, mail receptacle, or at any place where mail is accepted if the full required postage is paid with adhesive stamps. Metered mail must be deposited in locations under the jurisdiction of the licensing Post Office, except as permitted under 604.4.0.

* * * * *

200 Commercial Mail Letters, Cards, Flats, and Parcels

* * * * *

207 Periodicals

* * * * *

4.0 Basic Eligibility Standards

* * * * *

4.7 Eligible Formats

4.7.1 Complete Copies

[Revise the second sentence of 4.7.1 to read as follows:]

* * * Incomplete copies (for example, those lacking pages or parts of pages) are subject to the applicable First-Class Mail, First-Class Package Service—Retail, First-Class Package Service—Commercial, USPS Marketing Mail, USPS Retail Ground, or Package Services prices.

* * * * *

4.10 Back Issues and Reprints

[Revise the second sentence of 4.10 to read as follows:]

* * * Other mailings of back issues or reprint copies, including permanently bound back issues or reprint copies, are subject to the applicable First-Class Mail, First-Class Package Service—Retail, First-Class Package Service—Commercial, USPS Marketing Mail, USPS Retail Ground, or Package Services prices.

* * * * *

5.0 Applying for Periodicals Authorization

* * * * *

5.2 Mailing While Application Pending

5.2.1 Mailing Before Approval

[Revise the second sentence of 5.2.1 to read as follows:]

* * * Postage at the applicable First-Class Mail, First-Class Package Service—Retail, First-Class Package Service—Commercial, USPS Marketing Mail, or Package Services prices must be paid while the application is pending.

5.2.2 Record of Deposits

[Revise the third and fourth sentences of 5.2.2 to read as follows:]

* * * No record is kept of postage paid at First-Class Mail, First-Class Package Service—Retail, or First-Class Package Service—Commercial, prices or of postage not paid by advance deposit account. Records are kept for single-piece First-Class Mail or First-Class Package Service—Retail price mailings that may qualify for a refund under the exception in 5.3.6e.

5.3 Decision on Application

* * * * *

5.3.6 No Refund

No refund is made for:

* * * * *

[Revise the text of item e to read as follows:]

e. Postage paid at Priority Mail Express or First-Class Mail, First-Class Package Service—Retail, or First-Class Package Service—Commercial, prices. Exception: When postage is deposited at single-piece First-Class Mail or First-Class Package Service—Retail prices because a mailing presorted and prepared as Periodicals mail is less than 200 pieces or 50 pounds, a refund may be authorized.

* * * * *

7.0 Mailing to Nonsubscribers or Nonrequesters

* * * * *

7.9.7 Excess Noncommingled Mailing

[Revise the second sentence of 7.9.7 to read as follows:]

* * * These copies are subject to the appropriate Priority Mail Express, First-Class Mail, First-Class Package Service—Retail, First-Class Package Service—Commercial, Priority Mail, USPS Marketing Mail, USPS Retail Ground, or Package Services price.

7.9.8 Mixed Mailing

[Revise the second sentence of 7.9.8 to read as follows:]

* * * That portion is subject to the appropriate Priority Mail Express, First-Class Mail, First-Class Package Service—Retail, First-Class Package Service—Commercial, Priority Mail, USPS Marketing Mail, USPS Retail Ground, or Package Services price.

* * * * *

10.0 Preferred Periodicals

* * * * *

10.6 Mailing While Application Pending

10.6.1 Mailing Before Approval

[Revise the second sentence of 10.6.1 to read as follows:]

* * * Until approval is given, postage must be paid at the Outside-County prices (for authorized Periodicals publications), or at the First-Class Mail, First-Class Package Service—Retail, First-Class Package Service—Commercial, USPS Marketing Mail, or Package Services prices (if the publication is in a pending status for Periodicals mailing privileges).

10.6.2 Record of Deposits

[Revise the third sentence of 10.6.1 to read as follows:]

* * * No record is kept if First-Class Mail, First-Class Package Service—Retail, or First-Class Package Service—Commercial, postage is paid or if postage is not paid by advance deposit account.

* * * * *

10.7 Decision on Application

* * * * *

10.7.5 No Refunds

No refund is made for:

* * * * *

[Revise the text of item f to read as follows:]

f. Postage paid at Priority Mail Express, First-Class Mail or First-Class Package Service—Retail prices.

* * * * *

11.0 Basic Eligibility

* * * * *

11.5 Copies Mailed by Public

[Revise the text of 11.5 to read as follows:]

The single-piece First-Class Mail, First-Class Package Service—Retail, Priority Mail, USPS Retail Ground, or Package Services price is charged on copies of publications mailed by the general public and on copies returned to publishers or news agents.

* * * * *

28.0 Enter and Deposit

* * * * *

28.2 Basic Standards

[Revise the second sentence of 28.2 to read as follows:]

* * * The First-Class Mail, Mail First-Class Package Service—Retail, First-Class Package Service—Commercial, USPS Marketing Mail, Parcel Select, or USPS Retail Ground price must be paid on all copies mailed by the public or by a printer to a publisher. * * *

* * * * *

240 Commercial Mail USPS Marketing Mail

243 Prices and Eligibility

1.0 Prices and Fees

* * * * *

1.4 Fees

* * * * *

1.4.2 Weighted Fee

[Revise the second sentence of 1.4.2 to read as follows:]

* * * Weighted fee equals single-piece First-Class Mail, First-Class Package Service—Retail, or Priority Mail price multiplied by 2.472.

* * * * *

[Revise the heading and text of 3.7 to read as follows:]

3.7 Residual Mail Subject to First-Class, Mail First-Class Package Service—Retail, or Priority Mail Prices

Pieces prepared as USPS Marketing Mail (i.e., that bear USPS Marketing Mail price markings, ACS codes, etc.) that do not qualify for Enhanced Carrier Route, automation, or Presorted USPS Marketing Mail prices are subject to the single-piece First-Class Mail, First-Class Package Service—Retail, or Priority Mail prices as applicable for the weight of the mailpiece. Metered pieces weighing over 13 ounces but less than 16 ounces that do not qualify for USPS Marketing Mail prices and any pieces that do not qualify for USPS Marketing Mail prices for which First-Class Mail, First-Class Package Service—Retail, or Priority Mail service is desired must be re-enveloped or otherwise prepared so that they do not bear USPS Marketing Mail markings, endorsements, and ACS codes and must bear the proper First-Class Mail, First-Class Package Service—Retail, or Priority Mail price markings and ACS codes. Mailers who have pieces (other than metered pieces weighing over 13 ounces but less than 16 ounces) that do not qualify for USPS Marketing Mail prices but that are prepared as USPS Marketing Mail and who do not desire to receive First-Class Mail, First-Class Package Service—Retail, or Priority Mail service for those pieces may enter their mailpieces “as is” (i.e., bearing the USPS Marketing Mail markings and endorsements), provided the requirements in 244.1.0, are met.

* * * * *

244 Postage Payment and Documentation

* * * * *

5.0 Residual Pieces

[Revise the heading and introductory text of 5.1 to read as follows:]

5.1 Residual USPS Marketing Mail Subject to First-Class Mail or First-Class Package Service—Retail Prices

Mailers who have pieces weighing 13 ounces or less that do not qualify for USPS Marketing Mail prices but that are prepared as USPS Marketing Mail must pay single-piece First-Class Mail or First-Class Package Service—Retail postage for such pieces. If mailers do not desire to receive First-Class Mail service for such pieces they may enter the mailpieces “as is” (i.e., bearing the USPS Marketing Mail markings and endorsements), under the following conditions:

* * * * *

[Revise the first sentence of item b to read as follows:]

b. Mail bearing metered or precanceled stamp postage must pay the difference between the postage affixed at the USPS Marketing Mail prices and the single-piece First-Class Mail or First-Class Package Service—Retail prices by means of an advance deposit account or by affixing a meter stamp for the appropriate amount to Form 3600-R. * * *

* * * * *

[Revise the first sentence of item c to read as follows:]

c. Mail bearing permit imprints must pay the appropriate single-piece First-Class Mail or First-Class Package Service—Retail prices by completing Form 3600-R. * * *

* * * * *

500 Additional Services

503 Extra and Additional Services

1.0 Basic Standards for All Extra Services

* * * * *

1.4 Eligibility for Extra Services

* * * * *

1.4.1 Eligibility—Domestic Mail

* * * * *

Exhibit 1.4 Eligibility—Domestic Mail

[Add First-Class Package Service—Retail under the “Eligible Mail” column for Registered Mail services, Certified Mail services, Insurance services, Certificate of Mailing, Certificate of Bulk Mailing, Return Receipt, COD services, and Special Handling-Fragile.]

[Under the “Eligible Mail” column for Signature Confirmation revise First-Class Mail to read First-Class Package Service—Retail. Delete “parcels only” in the parenthetical.]

[Under the “Eligible Mail” column for Signature Confirmation Restricted Delivery, Adult Signature services, and USPS Tracking, revise First-Class Mail to read First-Class Package Service—Retail. Delete the #2 notation.]

* * * * *

4.0 Insured Mail

* * * * *

4.3 Basic Standards

4.3.1 Description

* * * The following additional standards apply to insured mail:

* * * * *

[Revise the text of item e to read as follows:]

e. First-Class Mail, First-Class Package Service—Retail, First-Class Package Service, and Priority Mail pieces may be insured, if they contain matter that is eligible to be mailed at USPS Marketing Mail, USPS Retail Ground, or Package Services prices.

* * * * *

4.3.2 Ineligible Matter

The following types of mail may not be insured:

* * * * *

[Revise the text of item e to read as follows:]

e. Matter mailed at First-Class Mail, First-Class Package Service—Retail, or Priority Mail prices that consists of items required to be mailed at First-Class Mail prices.

* * * * *

10.0 Special Handling

10.1 Basic Standards

* * * * *

10.1.2 Bees and Poultry

[Revise the text of 10.1.2 to read as follows:]

Unless sent Priority Mail Express, Priority Mail, First-Class Mail, First-Class Package Service—Retail, or First-Class Package Service, special handling-fragile is required for parcels containing honeybees or baby poultry.

* * * * *

505 Return Services

1.0 Business Reply Mail (BRM)

1.1 BRM Postage and Fees

1.1.1 Basic BRM

[Revise the first sentence of 1.1.1 to read as follows:]

For basic BRM, a permit holder is required to pay an annual permit fee as provided under 1.2 and a per-piece fee under 1.1.7 in addition to the applicable Retail First-Class Mail (metered for letters), First-Class Package Service—Retail, or Priority Mail postage for each returned piece.

* * * * *

1.3 Basic Standards

1.3.1 Description

[Revise first and second sentence of 1.3.1 to read as follows:]

Business Reply Mail (BRM) service enables a permit holder to receive First-Class Mail, First-Class Package Service—Retail, and Priority Mail back from customers. The permit holder guarantees payment of the applicable Retail First-Class Mail, First-Class Package Service—Retail, or Priority Mail postage, plus a per piece fee, on all returned BRM which includes any incomplete, blank, or empty BRM cards and envelopes and any mailable matter with a BRM label affixed. * * *

* * * * *

507 Mailer Services

1.0 Treatment of Mail

* * * * *

1.4 Basic Treatment

* * * * *

1.4.5 Extra Services

Mail with extra services is treated according to the charts for each class of mail in 1.5, except that:

[Revise the text of items a and b to read as follows:]

a. Undeliverable-as-addressed Certified Mail is treated as First-Class Mail and First-Class Package Service—Retail.

b. All insured First-Class Mail, First-Class Package Service—Retail, First-Class Package Service, and Priority Mail, pieces are forwarded and returned at no additional charge. All insured USPS Marketing Mail, USPS Retail Ground, Package Services, and Parcel Select pieces are forwarded or returned.

* * * * *

1.5 Treatment for Ancillary Services by Class of Mail

[Revise the heading and introductory text of 1.5.1 to read as follows:]

1.5.1 First-Class Mail, First-Class Package Service—Retail, First-Class Package Service, and Priority Mail

Undeliverable-as-addressed First-Class Mail (including postcards), First-Class Package Service—Retail, First-Class Package Service, and Priority Mail pieces are treated under Exhibit 1.5.1, with these additional conditions:

* * * * *

[Revise the third sentence of item b to read as follows:]

b. * * * Undeliverable First-Class Mail, First-Class Package Service—Retail, First-Class Package Service, or Priority Mail pieces with any alternative addressing format are returned with the reason for nondelivery attached, only if the address is incorrect or incomplete or the mail is undeliverable for another reason as shown in Exhibit 1.4.1; however, if such mail is endorsed Change Service Requested, piece is disposed of and an ACS record is provided for the same reasons.

* * * * *

[Revise the text of item d to read as follows:]

d. First-Class Mail, First-Class Package Service—Retail, First-Class Package Service, or Priority Mail pieces bearing USPS Marketing Mail markings and endorsements under 202 and 244.5.1 for letters, flats, and parcels, receives forwarding, return, and address correction services for USPS Marketing Mail under 1.5.3.

e. “Change Service Requested” is not permitted for the following:

* * * * *

[Revise the text of items e2 and e3 to read as follows:]

2. First-Class Mail, First-Class Package Service—Retail, First-Class Package Service, or Priority Mail pieces containing hazardous materials under 601.8.0.

3. First-Class Mail, First-Class Package Service—Retail, First-Class Package Service, or Priority Mail pieces with an extra service other than USPS Tracking or Signature Confirmation.

[Revise the introductory text of item f to read as follows:]

f. Address Change Service under 4.0 is available for First-Class Mail, First-Class Package Service—Retail, First-Class Package Service, and Priority Mail pieces with the ACS participant code for an authorized ACS participant and a valid ancillary service endorsement. Mailers participating in OneCode ACS under 4.2.6 may print an Intelligent Mail barcode on First-Class Mail automation letters instead of a participant code and endorsement. The only endorsements permitted on First-Class Mail, First-Class Package Service—Retail, First-Class Package Service, and Priority Mail valid ACS pieces are “Address Service Requested”, “Change Service Requested” or “Electronic Service Requested” subject to the following:

* * * * *

[Revise the heading of Exhibit 1.5.1 to read as follows:]

Exhibit 1.5.1 Treatment of Undeliverable First-Class Mail, First-Class Package Service—Retail, First-Class Package Service and Priority Mail

* * * * *

“Change Service Requested”

* * * * *

Restrictions (for Options 1 and 2)

The following restrictions apply:

1. This endorsement is limited to use on valid mailpieces bearing a proper ACS participant code and only for:

* * * * *

[Revise the text of (b) to read as follows:]

(b) First-Class Mail, First-Class Package Service—Retail, and First-Class Package Service (excluding hazardous materials).

* * * * *

1.5.2 Periodicals

Undeliverable-as-addressed (UAA) Periodicals publications (including publications pending Periodicals authorization) are treated as described in Exhibit 1.5.2, with these additional conditions:

* * * * *

[Revise the third sentence of item e to read as follows:]

e. * * * Each returned piece is charged the single-piece First-Class Mail or First-Class Package Service—Retail price for the weight and shape of the piece, and the letter-size nonmachinable surcharge if applicable, or the Priority Mail price for the weight and destination of the piece. * * *

* * * * *

Exhibit 1.5.2 Treatment of Undeliverable Periodicals

* * * * *

“Address Service Requested” ¹

If no change-of-address order on file:

[Revise the text under “If no change-of-address order on file:” to read as follows:]

Piece returned with reason for nondelivery attached (only return postage charged at single-piece First-Class Mail or First-Class Package Service—Retail price or Priority Mail single-piece price, as appropriate for weight of piece).

If change-of-address order on file:

* * * * *

[Revise the text in the second bullet to read as follows:]

After 60-day period: Piece returned with new address or reason for nondelivery attached (in either case, only return postage charged at single-piece First-Class Mail or First-Class Package Service—Retail price or Priority Mail single-piece price, as appropriate for weight of piece).

* * * * *

1.5.3 USPS Marketing Mail and Parcel Select Lightweight

Undeliverable-as-addressed (UAA) USPS Marketing Mail and Parcel Select Lightweight pieces are treated as described in Exhibit 1.5.3, with these additional conditions:

* * * * *

[Revise the text of item h to read as follows:]

h. A returned piece endorsed “Return Service Requested” is charged the applicable single-piece First-Class Mail or First-Class Package Service—Retail price for the weight and shape of the piece, and the nonmachinable surcharge if applicable, or the Priority Mail price for the weight and destination of the piece.

* * * * *

Exhibit 1.5.3 Treatment of Undeliverable USPS Marketing Mail and Parcel Select Lightweight

* * * * *

“Address Service Requested”

(Shipper Paid Forwarding/Return participants via ACS only)

Shipper Paid Forwarding/Return Option 1

If no change-of-address order on file:

[Revise the text under “If no change-of-address order on file:” to read as follows:]

Parcel returned with reason for nondelivery attached; postage due charged as follows: At applicable First-Class Mail, First-Class Package Service—Retail, or Priority Mail single-piece price for the weight of the parcel.

* * * * *

Shipper Paid Forwarding/Return Option 2

If no change-of-address order on file:

[Revise the text under “If no change-of-address order on file:” to read as follows:]

Piece returned with reason for nondelivery attached; postage due charged as follows: At applicable First-Class Mail, First-Class Package Service—Retail, or Priority Mail single-piece price for the weight of the parcel. Separate notice provided (electronic ACS fee is charged).

If change-of-address order on file:

[Revise the text in the first bullet to read as follows:]

Months 1 through 12: Parcel forwarded. Forwarding postage is charged to the mailer as follows: At applicable First-Class Mail, First-Class Package Service—Retail, or Priority Mail single-piece price for the weight of the parcel. Separate notice of new address provided (electronic ACS fee charged).

* * * * *

Shipper Paid Forwarding/Return Option 3

If no change-of-address order on file:

[Revise the text under “If no change-of-address order on file:” to read as follows:]

Piece returned with reason for nondelivery attached; postage due charged as follows: At applicable First-Class Mail, First-Class Package Service—Retail, or Priority Mail single-piece price for the weight of the parcel. Separate notice provided (electronic ACS fee is charged).

If change-of-address order on file:

[Revise the text in all three bullets to read as follows:]

Months 1 through 12: Parcel forwarded. Forwarding postage is charged to the mailer as follows: At applicable First-Class Mail, First-Class Package Service—Retail, or Priority Mail single-piece price for the weight of the parcel. Separate notice of new address provided (electronic ACS fee charged).

Months 13 through 18: Parcel returned with new address attached; return postage is charged to mailer as follows: At applicable First-Class Mail, First-Class Package Service—Retail, or Priority Mail single-piece price for the weight of the parcel. Separate notice of new address provided (electronic ACS fee is charged).

After month 18: Parcel returned with reason for nondelivery; return postage is charged to mailer as follows: At applicable First-Class Mail, First-Class Package Service—Retail, or Priority Mail single-piece price for the weight of the parcel. Separate notice of reason for nondelivery provided (electronic ACS fee is charged).

“Address Service Requested—BPRS”

(BPRS participants only)

* * * * *

If change-of-address order on file:

[Revise the text in the first bullet to read as follows:]

Months 1 through 12: Piece forwarded (no charge to addressee); separate ACS notice of new address provided (ACS address correction fee and forwarding postage charged at single-piece First-Class Mail, First-Class Package Service—Retail, or Priority Mail single-piece price, as appropriate for weight of piece, via mailer's ACS participant code).

* * * * *

“Return Service Requested”

(Except for BPRS participants)

Option 1

[Revise the second sentence to read as follows:]

* * * In either case, only return postage is charged at First-Class Mail, First-Class Package Service—Retail, or Priority Mail single-piece price, as appropriate for weight of piece.

Option 2

* * * * *

In all cases (regardless of whether a change-of-address order is on file):

[Revise the second sentence to read as follows:]

* * * In either case, both the address correction fee is charged, and return postage is charged at First-Class Mail, First-Class Package Service—Retail, or Priority Mail single-piece price, as appropriate for weight of piece.

* * * * *

“Change Service Requested”

(Shipper Paid Forwarding participants via ACS only)

* * * * *

If change-of-address order on file:

[Revise the text in the first bullet to read as follows:]

Months 1 through 12: Parcel forwarded; postage due charged to the mailer as follows; at applicable First-Class Mail, First-Class Package Service—Retail, or Priority Mail single-piece price for the weight of the parcel; separate notice of new address provided (electronic ACS fee charged).

* * * * *

1.8 Returning Mail

* * * * *

[Revise the heading and introductory text of 1.8.3 to read as follows:]

1.8.3 Priority Mail Express, Priority Mail, First-Class Mail, First-Class Package Service—Retail, and First-Class Package Service

Mailpieces sent as Priority Mail Express, Priority Mail, First-Class Mail, First-Class Package Service—Retail, or First-Class Package Service that cannot be delivered as addressed or forwarded to a new address, unless otherwise requested by the sender, are returned to the sender at no additional charge. Excluding pieces containing live animals, the following are disposed of by the USPS:

* * * * *

[Revise the text of item b to read as follows:]

b. First-Class Mail First-Class Package Service—Retail, or First-Class Package Service pieces with a valid ACS participant code and endorsed “Change Service Requested.”

* * * * *

1.9 Dead Mail

1.9.1 Basic Information

* * * The disposition of dead mail items is as follows:

* * * * *

[Revise the text of item b to read as follows:]

e. Except for unendorsed USPS Marketing Mail, undeliverable USPS Marketing Mail, USPS Retail Ground, Package Services, and insured First-Class Mail, First-Class Package Service—Retail, or First-Class Package Service pieces containing USPS Marketing Mail, USPS Retail Ground, or Package Services enclosures, that cannot be returned because of an incorrect, incomplete, illegible, or missing return address is opened and examined to identify the sender or addressee.

* * * * *

2.0 Forwarding

* * * * *

2.2 Forwardable Mail

* * * * *

2.2.3 Discontinued Post Office

[Revise the text of 2.2.3 to read as follows:]

All Priority Mail Express, Priority Mail, First-Class Mail, First-Class Package Service—Retail, First-Class Package Service, Periodicals, USPS Retail Ground, and Package Services pieces addressed to a discontinued Post Office may be forwarded without added charge to a Post Office that the addressee designates as more convenient than the office to which the USPS ordered the mail sent.

2.2.4 Rural Delivery

[Revise the text of 2.2.4 to read as follows:]

When rural delivery service is established or changed, a customer of any office receiving mail from the rural carrier of another office may have all Priority Mail Express, Priority Mail, First-Class Mail, First-Class Package Service—Retail, First-Class Package Service, Periodicals, USPS Retail Ground, and Package Services pieces forwarded to the latter office for delivery without added charge, if the customer files a written request with the postmaster at the former office.

* * * * *

2.2.6 Mail for Military Personnel

[Revise the first sentence of 2.2.6 to read as follows:]

All Priority Mail Express, First-Class Mail, First-Class Package Service—Retail, First-Class Package Service, Periodicals, USPS Retail Ground, and Package Services mailpieces addressed to persons in the U.S. Armed Forces (including civilian employees) serving where U.S. mail service operates is forwarded at no added charge when the change of address is caused by official orders. * * *

* * * * *

2.3 Postage for Forwarding

* * * * *

[Revise the heading and text of 2.3.3 to read as follows:]

2.3.3 Priority Mail, First-Class Mail, First-Class Package Service—Retail, and First-Class Package Service

Priority Mail, First-Class Mail (including postcards), First-Class Package Service—Retail, and First-Class Package Service mailpieces are forwarded without charge when postage is fully prepaid by the sender.

* * * * *

2.3.5 USPS Marketing Mail and Parcel Select Lightweight

[Revise the second sentence of 2.3.5 to read as follows:]

* * * Shipper Paid Forwarding/Return (under 4.2.9) provides mailers of USPS Marketing Mail and Parcel Select Lightweight parcels an option of paying forwarding postage on those parcels, or return postage if undeliverable, at the applicable single-piece First-Class Mail, First-Class Package Service—Retail, or Priority Mail price, instead of the addressee paying postage due charges. * * *

* * * * *

4.0 Address Correction Services

4.1 Address Correction Service

* * * * *

4.1.5 Other Classes

[Revise the first sentence of 4.1.5 to read as follows:]

When possible, “on-piece” address correction is provided for Priority Mail Express, Priority Mail, First-Class Mail, First-Class Package Service—Retail, First-Class Package Service, USPS Marketing Mail, USPS Retail Ground, Package Services, and Parcel Select pieces. * * *

* * * * *

5.0 Package Intercept

* * * * *

[Revise the first sentence of 5.1.2 to read as follows:]

5.1.2 Eligibility

[Revise the first sentence of 5.1.2 to read as follows:]

Except under 5.1.3, Package Intercept service is available for Priority Mail Express, Priority Mail, First-Class Mail, First-Class Package Service—Retail, First-Class Package Service, Parcel Select, USPS Retail Ground, Bound Printed Matter, Media Mail, or Library Mail mailpieces with a tracking barcode, addressed to, from, or between domestic destinations (608.2.0) that do not require a customs declarations label, and measuring not more than 108 inches in length and girth combined. * * *

* * * * *

5.2 Postage and Fees

[Revise the first sentence of 5.2 to read as follows:]

Customers must pay a nonrefundable per-piece fee once the USPS successfully intercepts the mailpiece. Priority Mail Express, Priority Mail, First-Class Mail, and First-Class Package Service—Retail, pieces being redirected to the sender are not relabeled or subject to additional postage. * * *

* * * * *

7.0 Pickup on Demand Service

* * * * *

7.2 Basic Standards

7.2.1 Availability

* * * Incidental amounts of other postage-affixed, full-price mail also may be collected when Pickup on Demand service is provided for:

* * * * *

[Revise the text of item c to read as follows:]

c. First-Class Package Service—Retail.

* * * * *

508 Recipient Services

1.0 Recipient Options

* * * * *

1.8 Commercial Mail Receiving Agencies

* * * * *

1.8.3 Addressee and CMRA Agreement

In delivery of the mail to the CMRA, the addressee and the CMRA agree that:

* * * * *

[Revise the sixth sentence of item b to read as follows:]

b. * * * At the end of the 6-month remail period the CMRA may return to the Post Office only First-Class Mail, First-Class Package Service—Retail, Priority Mail, Priority Mail Express, accountable mail, or USPS Retail Ground received for the former addressee (customer). * * *

[Revise the third sentence of item c to read as follows:]

c. * * * Upon approval, the CMRA may return to the Post Office only First-Class Mail, First-Class Package Service—Retail, Priority Mail, Priority Mail Express, accountable mail, and USPS Retail Ground received for the former customer. * * *

* * * * *

7.0 Premium Forwarding Service

* * * * *

7.2 Preparation

7.2.1 Weekly Priority Mail Shipments

* * * Regardless of any mailer's ancillary service endorsement on a mailpiece, and provided it fits within the shipment container, all mail is included in the weekly Priority Mail shipment, except as follows:

* * * * *

b. Mailpieces that do not fit in the shipment container, or that require a scan or signature at delivery, are scanned (when applicable) and then rerouted separately to the temporary address, subject to the following:

[Revise the text of item b1 to read as follows:]

1. Priority Mail Express, Priority Mail, First-Class Package Service—Retail, First-Class Package Service pieces and Periodicals parcels are rerouted separately at no additional charge.

* * * * *

d. Any mailpiece arriving postage due at the Post Office serving a customer`s primary address is not included in the weekly Priority Mail shipment and will be rerouted separately as follows:

[Revise the text of item d1 to read as follows:]

1. First-Class Mail, First-Class Package Service—Retail, First-Class Package Service, and Priority Mail pieces are charged only for the original postage due amount.

* * * * *

7.3 Premium Forwarding Service Commercial

* * * * *

7.3.3 Conditions

Only the authorized recipient (or legal agent) of the business' (or organization's) mail may activate the request for PFS-Commercial service. PFS-Commercial service is subject to these conditions:

* * * * *

[Revise the text of item e to read as follows:]

e. Except under 7.3.3g, the following products may be included in a PFS-Commercial service container: Priority Mail, First-Class Mail, First-Class Package Service—Retail, and First-Class Package Service pieces.

* * * * *

600 Basic Standards For All Mailing Services

* * * * *

602 Addressing

1.0 Elements of Addressing

* * * * *

1.3 Address Elements

All mail not bearing a simplified address must bear a delivery address that contains at least the following elements in this order from the top line:

* * * * *

e. ZIP Code where required:

* * * * *

[Revise the text of item e2 to read as follows:]

2. Unless required above, ZIP Codes may be omitted from single-piece price First-Class Mail (including Priority Mail), First-Class Package Service—Retail, USPS Retail Ground, and pieces bearing a simplified address.

* * * * *

4.0 Detached Address Labels (DALs) and Detached Marketing Labels (DMLs)

* * * * *

4.4 Disposition of Excess or Undeliverable Material

4.4.1 Excess Material

* * * The mailer must choose one of the following options for each DAL mailing and the items:

* * * * *

[Revise the second sentence of item d to read as follows:]

d. * * * Additional material must be sent prepaid to the delivery Post Office as First-Class Mail, First-Class Package Service—Retail, Priority Mail, or Priority Mail Express.

* * * * *

4.5 Postage

* * * * *

4.5.3 Returns

[Revise the first sentence of 4.5.3 to read as follows:]

Postage for excess or undeliverable DALs that are properly endorsed or for items being returned is computed at the single-piece price (First-Class Mail, First-Class Package Service—Retail, Priority Mail, or Package Services) applicable to the combined weight of the DAL and the accompanying item, regardless of whether both are returned. * * *

* * * * *

604 Postage Payment Methods and Refunds

* * * * *

4.0 Postage Meters and PC Postage Products (“Postage Evidencing Systems”)

* * * * *

4.6 Mailings

4.6.1 Mailing Date Format

* * * The mailing date format used in the indicia is also subject to the following conditions:

a. Complete Date. Mailers must use a complete date for the following:

[Revise the text of item a1 to read as follows:]

1. All Priority Mail Express, Priority Mail, First-Class Mail, First-Class Package Service—Retail, and First-Class Package Service pieces.

* * * * *

4.6.3 Deposit of Mail

Mailers must deposit or enter mailpieces with metered or PC Postage indicia according to the following conditions:

[Revise the first sentence of item a to read as follows:]

a. Mailers may deposit Priority Mail Express, Flat Rate Priority Mail, Priority Mail weighing one pound or less, single-piece price First-Class Mail, First-Class Package Service—Retail, single-piece price Media Mail, and single-piece price Library Mail items with a metered or PC Postage indicia at any postal facility, preferably within the area of the customer's local Post Office. * * *

* * * * *

8.0 Insufficient or Omitted Postage

8.1 Insufficient Postage

* * * * *

8.1.2 Undeliverable and Refused Mail

Mail with insufficient postage that is refused by the addressee or otherwise undeliverable is:

* * * * *

[Revise the text of item b to read as follows:]

b. Returned to the sender and delivered when the sender pays the total deficient postage and additional postage for forwarding or return if other than First-Class Mail or First-Class Package Service—Retail, and with a return address.

* * * * *

8.1.6 Registered Mail With Insufficient Postage

[Revise the first sentence of 8.1.6 to read as follows:]

If shortpaid Registered Mail is found in ordinary mail, with only the First-Class Mail or First-Class Package Service—Retail, price of postage paid, the piece is delivered to the addressee as ordinary First-Class Mail or First-Class Package Service—Retail. * * *

* * * * *

8.3 Mailable Matter Without Postage in or on Mail Receptacles

* * * * *

8.3.4 Partial Distribution

[Revise the text of 8.3.4 to read as follows:]

If there is a distribution of pieces to some, but not all, addresses on a route, pieces are returned to the delivery unit for use in computing the postage due. First-Class Mail or First-Class Package Service—Retail prices are applied to matter that would require First-Class Mail or First-Class Package Service—Retail postage if mailed. For other matter, if the piece weighs less than 16 ounces, the applicable single-piece First-Class Mail, First-Class Package Service—Retail, or Priority Mail price based on the weight of the piece is applied, or USPS Retail Ground or an applicable Package Services price is applied, whichever is lower. If the piece weighs 16 ounces or more, the USPS Retail Ground or applicable Package Services price is applied.

* * * * *

9.0 Exchanges and Refunds

* * * * *

9.2 Postage and Fee Refunds

* * * * *

9.2.3 Full Refund

A full refund (100%) may be made when:

* * * * *

[Revise the first sentence of item l to read as follows:]

l. If a First-Class Mail, First-Class Package Service—Retail, First-Class Package Service, USPS Retail Ground or Package Services mailpiece is torn or defaced during USPS handling so that the addressee or intended delivery point cannot be identified. * * *

* * * * *

609 Filing Indemnity Claims for Loss or Damage

1.0 General Filing Instructions

* * * * *

1.4 When to File

File claims as follows:

* * * * *

b. Lost Articles: Customers must file a claim within the time limits in the chart below.

Mail Type or Service

* * * * *

[Revise the sixth line item to read as follows:]

APO/FPO/DPO Insured Mail and registered Mail (Priority Mail, First-Class Mail, First-Class Package Service—Retail, SAM, or PAL)

* * * * *

700 Special Standards

703 Nonprofit USPS Marketing Mail and Other Unique Eligibility

1.0 Nonprofit USPS Marketing Mail

* * * * *

1.9 Mailing While Application Pending

* * * * *

1.9.2 Postage Record

[Revise the text of 1.9.2 to read as follows:]

While an application, or confirmation of authorization, is pending postage must be paid at applicable First-Class Mail, First-Class Package Service—Retail, or Priority Mail prices, or at applicable USPS Marketing Mail prices. The USPS records the difference between postage paid at regular USPS Marketing Mail prices and the postage that would have been paid at Nonprofit USPS Marketing Mail prices. No record is kept if postage is paid at First-Class Mail, First-Class Package Service—Retail, or Priority Mail prices.

1.9.3 Refund

* * * No refund is made:

* * * * *

[Revise the text of item b to read as follows:]

b. If postage was paid at First-Class Mail, First-Class Package Service—Retail, or Priority Mail prices.

* * * * *

We will publish an appropriate amendment to 39 CFR part 111 to reflect these changes.

Stanley F. Mires,
Attorney, Federal Compliance.

[FR Doc. 2017-17799 Filed 8-22-17; 8:45 am]

BILLING CODE 7710-12-P